DEPARTMENT OF THE INTERIOR

Fish and Wildlife Service

[FWS-R5-ES-2024-N001; FXES11130500000-245-FF05E00000]

Endangered Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing the requested permits, we will take into consideration any information that we receive during the public comment period.

DATES: We must receive any written comments on or before March 7, 2024.

ADDRESSES: Use one of the following methods to request documents or submit comments. Requests and comments should specify the applicant's name and application number (e.g., PER0001234):

• Email: permitsR5ES@fws.gov.

• U.S. Mail: Abby Goldstein, Ecological Services, U.S. Fish and Wildlife Service, 300 Westgate Center Dr. Hadley, MA 01035.

FOR FURTHER INFORMATION CONTACT: Abby Goldstein, 413-253-8212 (phone), or permitsR5ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act of 1973, as amended (ESA; 16 U.S.C. 1531 et seq.). The requested permits would allow the applicants to conduct activities intended to promote recovery of species that are listed as endangered under the ESA.

Background

With some exceptions, the ESA prohibits activities that constitute take of listed species, unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications.

Application No. | Applicant | Species | Location | Activity | Type of take | Permit action
PER6201238 | West Virginia Cooperative Fish and Wildlife Research Unit, Morgantown, WV; Stuart A. Welsh | Candy darter (Etheostoma osburni), diamond darter, (Crystallaria cincotta) | West Virginia | Presence/probable absence survey, monitoring, electrofishing, capture for propagation, release | Capture, collect | New.
PER5256019 | Anneka Lamb, Brewster, MA | Indiana bat (Myotis sodalis), northern long-eared bat (Myotis septentrionalis), gray bat (Myotis grisescens), Ozark big-eared bat (Corynorhinus (=Plecotus) townsendii ingens), tricolored bat (Perimyotis subflavus) | Alabama, Arkansas, Colorado, Connecticut, Delaware, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, Wyoming | Capture, band, telemetry, nonintrusive measurements, release | Capture, collect | New.
PER5389953 | Jason R Holmes, Arcata, CA | Indiana bat (Myotis sodalis), northern long-eared bat (Myotis septentrionalis) | Connecticut, Delaware, Illinois, Indiana, Kentucky, Maine, Maryland, Massachusetts, Minnesota, New Hampshire, New Jersey, New York, North Carolina, Ohio, Pennsylvania, Rhode Island, South Carolina, Tennessee, Vermont, Virginia, West Virginia, Wisconsin | Capture, telemetry, nonintrusive measurements, release | Capture, collect | New.
20359D-2 | University of Rhode Island, Kingston, RI; Peter Paton | Roseate tern (Sterna dougallii dougallii) Add: Rufa red knot (Calidris canutus rufa) | New York Add: Massachusetts, Rhode Island | Add for roseate tern: Capture, band, collect feather, collect eggshell, telemetry attachment research | Capture, collect | Amend.
|  |  |  | Add for rufa red knot: Capture, band, collect blood, telemetry, release
PER6130772 | Virginia Department of Wildlife Resources, Blacksburg, VA; Michael Pinder | Candy darter (Etheostoma osburni) | Virginia | Electrofishing, capture for propagation, holding more than 45 days, release | Capture | New.
60406D-2 | Atlantic Marine Conservation Society, Westhampton Beach, NY; Robert DiGiovanni | Kemp's ridley sea turtle (Lepidochelys kempii), leatherback sea turtle (Dermochelys coriacea), hawksbill sea turtle (Eretmochelys imbricata), loggerhead sea turtle (Caretta caretta), green sea turtle (Chelonia mydas) | Connecticut, Delaware, Massachusetts, Maryland, Maine, New Hampshire, New Jersey, New York, Rhode Island, Virginia | Stranding response, rehabilitation, telemetry, necropsy, release | Capture, collect, wound | Renew.
60434D-2 | Sea Turtle Recovery, West Orange, NJ; William Deerr | Kemp's ridley sea turtle (Lepidochelys kempii), hawksbill sea turtle (Eretmochelys imbricata), leatherback sea turtle (Dermochelys coriacea), loggerhead sea turtle (Caretta caretta), and green sea turtle (Chelonia mydas) | New Jersey | Stranding response, rehabilitation, nest monitoring, necropsy, release | Capture, collect | Renew.
60415D-2 | Massachusetts Audubon Wellfleet Bay, South Wellfleet, MA; Melissa Lowe | Kemp's ridley sea turtle (Lepidochelys kempii), leatherback sea turtle (Dermochelys coriacea), hawksbill sea turtle (Eretmochelys imbricata), loggerhead sea turtle (Caretta caretta), green sea turtle (Chelonia mydas) | Massachusetts | Stranding response, necropsy | Capture, collect | Renew.
60921D-2 | Zoological Society of Pittsburgh, dba Pittsburgh Zoo & Aquarium, Pittsburgh, PA; Jeremy Goodman | Kemp's ridley sea turtle (Lepidochelys kempii), hawksbill sea turtle (Eretmochelys imbricata), leatherback sea turtle (Dermochelys coriacea), loggerhead sea turtle (Caretta caretta), green sea turtle (Chelonia mydas) | Pennsylvania | Rehabilitation, necropsy | Collect | Renew.
60928D-2 | National Marine Life Center, Buzzards Bay, MA; Lisa Becker | Kemp's ridley sea turtle (Lepidochelys kempii), hawksbill sea turtle (Eretmochelys imbricata), loggerhead sea turtle (Caretta caretta), green sea turtle (Chelonia mydas) | Massachusetts | Rehabilitation, necropsy | Collect | Renew.
60418D-2 | Marine Mammal Stranding Center, Brigantine, NJ; Sheila Dean | Hawksbill sea turtle (Eretmochelys imbricata), Kemp's ridley sea turtle (Lepidochelys kempii), leatherback sea turtle (Dermochelys coriacea), green sea turtle (Chelonia mydas), loggerhead sea turtle (Caretta caretta) | New Jersey | Stranding response, necropsy | Capture, collect | Renew.
69328D-4 | New England Aquarium, Boston, MA; Adam Kennedy | Kemp's ridley sea turtle (Lepidochelys kempii), leatherback sea turtle (Dermochelys coriacea), hawksbill sea turtle (Eretmochelys imbricata), loggerhead sea turtle (Caretta caretta), green sea turtle (Chelonia mydas) | Massachusetts, Maine, New Hampshire | Stranding response, rehabilitation, necropsy, research, release Add: Telemetry, pharmacology research, biological sample archival | Capture, collect, wound | Renew.
70312D-2 | National Aquarium, Baltimore, MD; Stephanie Allard | Kemp's ridley sea turtle (Lepidochelys kempii), leatherback sea turtle (Dermochelys coriacea), hawksbill sea turtle (Eretmochelys imbricata), loggerhead sea turtle (Caretta caretta), green sea turtle (Chelonia mydas) | Maryland | Stranding response, rehabilitation, necropsy, release | Capture, collect | Renew.
69329D-1 | Marine Mammals of Maine, Harpswell, ME; Lynda Doughty | Kemp's ridley sea turtle (Lepidochelys kempii), leatherback sea turtle (Dermochelys coriacea), hawksbill sea turtle (Eretmochelys imbricata), loggerhead sea turtle (Caretta caretta), green sea turtle (Chelonia mydas) | Maine | Stranding response, necropsy | Capture, collect | Renew.
60419D-1 | MERR, Inc., Lewes, DE; Suzanne Thurman | Kemp's ridley sea turtle (Lepidochelys kempii), hawksbill sea turtle (Eretmochelys imbricata), leatherback sea turtle (Dermochelys coriacea), loggerhead sea turtle (Caretta caretta), green sea turtle (Chelonia mydas) | Delaware | Stranding response, necropsy Add: nest monitoring | Capture, collect | Renew.
69330D-1 | Allied Whale, College of the Atlantic, Bar Harbor, ME; Sean Todd | Kemp's ridley sea turtle (Lepidochelys kempii), hawksbill sea turtle (Eretmochelys imbricata), leatherback sea turtle (Dermochelys coriacea), loggerhead sea turtle (Caretta caretta), green sea turtle (Chelonia mydas) | Maine | Stranding response, necropsy | Capture | Renew.
70311D-3 | Riverhead Foundation for Marine Research and Preservation, dba New York Marine Rescue Center, Riverhead, NY; Maxine Montello | Kemp's ridley sea turtle (Lepidochelys kempii), loggerhead sea turtle (Caretta caretta), green sea turtle (Chelonia mydas) | New York | Add: Telemetry | Wound | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to the applicants listed in this notice, we will publish a notice in the Federal Register.

Authority

Section 10(c) of the Endangered Species Act of 1973, as amended (16 U.S.C. 1531 et seq.).

Martin Miller,
Manager, Division of Endangered Species, Ecological Services, Northeast Region.

[FR Doc. 2024-02309 Filed 2-5-24; 8:45 am]

BILLING CODE 4333-15-P